DEPARTMENT OF ENERGY

Federal Energy Regulatory Commission

[Docket No. CP06-446-000, et al.]

Gulf South Pipeline Company, LP; Notice of Availability of the Final Environmental Impact Statement for the Proposed East Texas to Mississippi Expansion Project

May 25, 2007.

The staff of the Federal Energy Regulatory Commission (FERC or Commission) has prepared this Final Environmental Impact Statement (EIS) for the natural gas pipeline facilities proposed by Gulf South Pipeline Company, LP (Gulf South) under the above-referenced docket. Gulf South's East Texas to Mississippi Expansion Project (Project) would be located in various counties and parishes in eastern Texas, northern Louisiana, and western Mississippi.

The Final EIS was prepared to satisfy the requirements of the National Environmental Policy Act. The FERC staff concludes that the proposed Project, with the appropriate mitigation measures as recommended, would have limited adverse environmental impact.

The U.S. Fish and Wildlife Service (FWS), National Park Service (NPS), U.S. Environmental Protection Agency (EPA), and the U.S. Army Corps of Engineers (COE) are federal cooperating agencies for the development of this EIS. A federal cooperating agency has jurisdiction by law or special expertise with respect to any environmental impact involved with the proposal and is involved in the NEPA analysis.

The general purpose of the proposed Project is to transport up to 1.7 billion cubic feet per day of natural gas from production fields in eastern Texas to markets in the Gulf Coast, Midwestern, Northeastern, and Southeastern regions of the United States.

The Final EIS addresses the potential environmental impacts resulting from the construction and operation of the following facilities:

• Approximately 240.3 miles of 42-inch-diameter natural gas pipeline extending easterly from DeSoto Parish, Louisiana to Simpson County, Mississippi;

• approximately 3.3 miles of 36-inch-diameter natural gas pipeline extending northward from Gulf South's existing Carthage Junction Compressor Station in Panola County, Texas to interconnects with existing natural gas facilities within Panola County;

• two new compressor stations, the Vixen and the Tallulah Compressor Stations, located in Ouachita and Madison Parishes, Louisiana, respectively;

• modifications to three existing compressor stations, the Carthage Junction, Hall Summit, and McComb Compressor Stations in Panola, County, Texas, Bienville Parish, Louisiana and Walthall County, Mississippi, respectively; and

• other ancillary facilities, including six meter and regulator (M/R) facilities, eleven mainline valves, nine side valves, and five pig launcher and/or receiver facilities.

Dependent upon Commission approval, Gulf South proposes to complete construction and begin operating the proposed Project in September 2007.

The Final EIS has been placed in the public files of the FERC and is available for public inspection at: Federal Energy Regulatory Commission, Public Reference Room, 888 First Street, NE., Room 2A, Washington, DC 20426, (202) 502-8371.

A limited number of copies of the Final EIS are available from the Public Reference Room identified above. In addition, CD copies of the Final EIS have been mailed to affected landowners; various federal, state, and local government agencies; elected officials; environmental and public interest groups; Native American tribes; local libraries and newspapers; intervenors; and other individuals that expressed an interest in the proposed Project. Hard-copies of the Final EIS have also been mailed to those who requested that format during the scoping and comment periods for the proposed Project.

In accordance with the Council on Environmental Quality's (CEQ) regulations implementing NEPA, no agency decision on a proposed action may be made until 30 days after the U.S. Environmental Protection Agency (EPA) publishes a notice of availability of a Final EIS. However, the CEQ regulations provide an exception to this rule when an agency decision is subject to a formal internal process that allows other agencies or the public to make their views known. In such cases, the agency decision may be made at the same time the notice of the Final EIS is published, allowing both periods to run concurrently. Should the FERC issue Gulf South authorizations for the proposed Project, it would be subject to a 30-day rehearing period. Therefore, the Commission could issue its decision concurrently with the EPA's notice of availability.

Additional information about the proposed Project is available from the Commission's Office of External Affairs, at 1-866-208-FERC or on the FERC Internet Web site (http://www.ferc.gov). To access information via the FERC Web site click on the “eLibrary” link then click on “General Search” and enter the docket number (CP06-446) excluding the last three digits in the Docket Number field. Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Kimberly D. Bose,
Secretary.

[FR Doc. E7-10532 Filed 5-31-07; 8:45 am]

BILLING CODE 6717-01-P